DEPARTMENT OF DEFENSE

Office of the Secretary

[Docket ID: DoD-2014-HA-0010]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Health Cost Assessment & Program Evaluation Office, Defense Health Agency, ATTN: Dr. Kimberley Marshall, 7700 Arlington Blvd., Suite 5101, Falls Church, VA 22042-5101.

SUPPLEMENTARY INFORMATION:

Title; and OMB Number: TRICARE Award Fee Provider Survey; OMB Control Number 0720-0048.

Needs and Uses: The information collection requirement is necessary to obtain and record TRICARE network civilian provider-user satisfaction with the administrative processes/services of managed care support contractors (MCSC) in three TRICARE regions within the United States (North, West, and South) and three regions internationally (Europe, Pacific and Latin America). The survey will obtain provider opinions regarding claims processing, customer service, and administrative support by the TRICARE regional contractors. The reports of findings from these surveys, coupled with performance criteria from other sources, will be used by the TRICARE Regional Administrative Contracting Officers to determine award fees.

Affected Public: Individuals or households; businesses or other for-profit; not for-profit institutions.

Annual Burden Hours: 102

Number of Respondents: 1224

Responses per Respondent: 1

Average Burden per Response: 5 minutes per respondent

Frequency: On occasion

The Defense Health Cost Assessment & Program Evaluation (DHCAPE) Office under the authority of the Office of the Assistant Secretary of Defense (Health Affairs)/Defense Health Agency will undertake a survey of TRICARE network providers to ask a series of questions regarding satisfaction with the TRICARE Health Plan. For these purposes, a provider is defined as a person, business, or institution that provides health care. For example, a doctor, hospital, or ambulance company is a provider. Providers must be authorized under TRICARE regulations and have their status certified by the regional contractors to provide services to TRICARE beneficiaries.

Defense Health Agency (DHA), the Defense Department activity that administers the health care plan for the uniformed services, retirees and their families, serves more than 9.6 million eligible beneficiaries worldwide in the Military Health System. TRICARE supplements the health care resources of the uniformed services with networks of civilian professionals to provide high-quality health care services while maintaining the capability to support military operations. DHA has partnered with civilian regional contractors in the three U.S and three international regions to provide these health care services and support to beneficiaries.

DOD has delegated oversight of the civilian provider network to the TRICARE Regional Offices. To improve DOD's oversight of the civilian provider network, GAO (Defense Health Care: Oversight of the Tricare Civilian Provider Network Should Be Improved; GAO-03-928; July 31, 2003) has recommended the Assistant Secretary of Defense for Health Affairs to explore options for improving the civilian provider surveys so that the results of the surveys could be useful to DOD and to the contractors in identifying civilian provider concerns and developing actions that might mitigate concerns and help ensure the adequacy of the civilian provider network.

As a result, the new Managed Care Support Contracts (MCSC) incorporates an incentive award fee component. The determination of the award fee is through an evaluation by the Government that rewards contractor performance that exceeds contract requirements. For assessment of awards, activities will include, in part, the collection and analyses of survey data obtained confidentially via telephone from network civilian providers within U.S. and international regions. The goal of this survey effort is to provide regional Administrative Contracting Officers with information on provider-user satisfaction with the administrative processes/services of MCSC. Specifically, confidential telephone surveys of civilian network providers will be conducted that focus on three basic business functions provided of claims processing, customer service, and administrative services by the MCSC.

Dated: January 22, 2014.
Aaron Siegel,
Alternate OSD Federal Register Liaison Officer, Department of Defense.

[FR Doc. 2014-01451 Filed 1-24-14; 8:45 am]

BILLING CODE 5001-06-P